DEPARTMENT OF COMMERCE

National Oceanic and Atmospheric Administration

50 CFR Parts 648

[Docket No. 021017239-2322-02 ; I.D. 091902F]

RIN 0648-AQ15

Fisheries of the Northeastern United States; Atlantic Mackerel, Squid, and Butterfish Fisheries

AGENCY: National Marine Fisheries Service (NMFS), National Oceanic and Atmospheric Administration (NOAA), Commerce.

ACTION: Final rule and 2003 specifications.

SUMMARY: NMFS announces final initial specifications for the 2003 fishing year for Atlantic mackerel, squid, and butterfish (MSB); including an in-season adjustment provision for the 2003 mackerel joint venture processing (JVP) annual specification. This action also specifies a method for carrying over Loligo squid Quarter I underages into Quarter III. The intent of this final rule is to promote the development and conservation of the MSB resource.

DATES: Effective February 3, 2003.

ADDRESSES: Copies of supporting documents used by the Mid-Atlantic Fishery Management Council, including the Environmental Assessment (EA) and Regulatory Impact Review (RIR), Final Regulatory Flexibility Analysis (FRFA), are available from: Patricia A. Kurkul, Regional Administrator, Northeast Regional Office, NMFS, One Blackburn Drive, Gloucester, MA 01930-2298. The EA/RIR/FRFA is accessible via the Internet at http://www.nero.nmfs.gov.

FOR FURTHER INFORMATION CONTACT: Paul H. Jones, Fishery Policy Analyst, 978-281-9273, fax 978-281-9135, e-mail paul.h.jones@noaa.gov.

SUPPLEMENTARY INFORMATION: Regulations implementing the Atlantic Mackerel, Squid, and Butterfish Fishery Management Plan (FMP) require NMFS to publish annual initial specifications for maximum optimum yield (Max OY), allowable biological catch (ABC), initial optimum yield (IOY), domestic annual harvest (DAH), domestic annual processing (DAP), JVP, and total allowable level of foreign fishing (TALFF) for the species managed under the FMP. In addition, regulations implemented under Framework Adjustment 1 to the FMP allow the specification of quota set-asides to be used for research purposes.

Proposed 2003 initial specifications were published on October 29, 2002 (67 FR 65934). Public comments were accepted through November 27, 2002. The final specifications are unchanged from those that were proposed. A complete discussion of the development of the specifications appears in the preamble to the proposed rule and is not repeated here.

2003 Final Initial Specifications

The following table contains the final initial specifications and research set-aside (RSA) for the 2003 MSB fisheries.

Table 1. Final Initial Annual Specifications and RSA, in Metric Tons (mt), for Atlantic Mackerel, Squid, and Butterfish for the Fishing Year January 1 through December 31, 2003
Specifications | Squid: Loligo | Squid: Illex | Alantic: Mackerel | Butterfish
Max OY | 26,000 | 24,000 | N/A¹ | 16,000
ABC | 17,000 | 24,000 | 347,000 | 7,200
IOY | 16,872.5⁵ | 24,000 | 175,000² | 5,900
DAH | 16,872.5 | 24,000 | 175,000³ | 5,900
DAP | 16,872.5 | 24,000 | 150,000 | 5,900
JVP | 0 | 0 | 10,000⁴ | 0
TALFF | 0 | 0 | 0 | 0
RSA | 127.5 | 0 | 0 | 0
¹ Not applicable.
² IOY may be increased during the year, but the total ABC will not exceed 347,000 mt.
³ Includes 15,000 mt of Atlantic mackerel recreational allocation.
⁴ JVP may be increased up to 20,000 mt at discretion of Regional Administrator.
⁵ Excludes 127.5 mt for RSA.

2003 Final Specifications

Atlantic Mackerel

This final rule specifies an Atlantic mackerel JVP of 10,000 mt for the 2003 fishery, with a possible increase of up to 10,000 mt (for a total JVP of up to 20,000 mt) later in the fishing year, should additional applications for JVP be received. This adjustment would be made by NMFS, in consultation with the Council, through publication of notification in the Federal Register. The action also specifies an Atlantic mackerel DAP of 150,000 mt and a DAH of 175,000 mt, which includes a 15,000-mt recreational component.

Four special conditions recommended by the Council and imposed by NMFS in previous years continue to apply to the 2003 Atlantic mackerel fishery, as follows: (1) JVPs would be allowed south of 37°30′ N. lat., but river herring bycatch may not exceed 0.25 percent of the over-the-side transfers of Atlantic mackerel; (2) the Administrator, Northeast Region, NMFS (Regional Administrator) should ensure that impacts on marine mammals are reduced in the prosecution of the Atlantic mackerel fishery; (3) the mackerel optimum yield (OY) may be increased during the year, but it should not exceed 347,000 mt; and (4) applications from a particular nation for an Atlantic mackerel JVP allocation for 2003 may be based on an evaluation by the Regional Administrator of that nation's performances relative to purchase obligations for previous years.

Atlantic Squids

Loligo

This final rule specifies a Loligo squid IOY of 16,898 mt, which is equal to ABC minus the RSA, and subdivides the annual quota into quarterly periods. The 2003 quarterly allocations are as follows:

Quarter |  | Percent | Metric Tons¹ | Research Set-aside
I | (Jan-Mar) | 33.23 | 5,606.7 | N/A
II | (Apr-Jun) | 17.61 | 2,971.3 | N/A
III | (Jul-Sep) | 17.3 | 2,918.9 | N/A
IV | (Oct-Dec) | 31.86 | 5,375.6 | N/A
Total |  | 100 | 16,872.5 | 127.5
¹ Quarterly allocations after 127.5 mt RSA deduction.

Carry-over of Quarterly Quota Underages

In 2002, by default, quarterly underages from Quarters II and III carried over into Quarter IV, because Quarter IV does not close until 95 percent of the total annual quota has been harvested. Additionally, if the Quarter I landings for Loligo squid were less than 70 percent of the Quarter I allocation, the underage below 70 percent was to be applied to the Quarter III allocation. For 2003, the Council recommended that, in the event that the Quarter I landings for Loligo squid are less than 80 percent of the Quarter I allocation, the underage below 80 percent should be added to the Quarter III allocation. In a November 20, 2002, letter to NMFS, the Council confirmed its intent relative to the transfer of underage of Loligo squid in Quarter I to Quarter III. The Council believes the proposed rule accurately reflected the intent of the Council with regard to this issue. Therefore, this final rule modifies the allocation method such that, if the Quarter I landings of Loligo squid are less than 80 percent of the Quarter I allocation, the underage below 80 percent will be added to the Quarter III allocation.

Comments and Responses

Three commenters commented on a total of two issues in the proposed specifications.

Comment 1: Three commenters expressed support for the proposed zero allocation of Atlantic mackerel TALFF.

Response 1: This final rule implements the proposed zero allocation of Atlantic mackerel TALFF.

Comment 2: Two commenters opposed the proposed Atlantic mackerel JVP specification of 10,000 mt because they believe shore-based processors would be negatively affected by foreign joint ventures that would compete with the U.S. domestic mackerel harvest.

Response 2: The Council relied on testimony presented by domestic processors during its May 2, 2002, meeting concerning their current and projected shoreside processing capacity for Atlantic mackerel in 2003. While domestic processing capacity is increasing, the Council believes, based on the best data available, that the capacity of the domestic fleet to harvest mackerel still exceeds the domestic processors' capacity to process mackerel. As a result, the Council recommended, and NMFS is implementing, the 10,000-mt JVP allocation to provide additional opportunity for U.S. vessels to sell mackerel.

Classification

This final rule has been determined to be not significant for purposes of E. O. 12866.

NMFS prepared a FRFA for this action. The FRFA includes a summary of the analyses done in support of these specifications. A copy of the FRFA is available from NMFS (see ADDRESSES). A summary of the FRFA follows:

The reasons why this action is being taken by the agency, and the objectives of this final rule are explained in the preamble to the proposed rule and are not repeated here. This action does not contain any collection-of-information, reporting, recordkeeping, or other compliance requirements. It does not duplicate, overlap, or conflict with any other Federal rules. This action is taken under authority of the Magnuson-Stevens Act and regulations at 50 CFR part 648.

Three comments were submitted on the proposed rule, but none of them were specific to the initial regulatory flexibility analysis. However, two individuals commented on the economic impacts of the measures on the fishing industry; NMFS has responded to those comments (Comment 2) in the Comments and Responses section of the preamble to this final rule. No changes were made to the final rule as a result of the comments received.

The numbers of potential fishing vessels in the 2003 fisheries are 384 for Loligo squid/butterfish, 73 for Illex squid, 2,242 for Atlantic mackerel, and 1,828 vessels with incidental catch permits for squid/butterfish. All of the vessels are considered small entities. Many vessels participate in more than one of these fisheries; therefore, the numbers are not additive. The final DAH specifications of 175,000 mt for Atlantic mackerel, 24,000 mt for Illex squid, and 5,900 mt for butterfish represent no constraint on vessels in these fisheries. The level of landings allowed under the final specifications for 2003 has not been achieved by vessels in these fisheries in recent years. Absent such a constraint, no impacts on revenues are expected as a result of the final action.

From 1997-2001, Loligo squid landings averaged 16,771 mt annually. If the 2003 final DAH specification of 16,872.5 mt for Loligo squid is achieved, there would be an increase in catch and revenue in the Loligo squid fishery relative to the average landings from 1997-2001. One alternative would have set ABC, DAH, DAP, and IOY at 18,300 mt. Under this alternative, the quota would be specified at a level that is 1,300 mt higher than is specified by the overfishing definition control rule in the FMP. Since the stock would not be protected from overfishing under this alternative, some negative economic and social impacts could be expected from this alternative in the long term, if the stock did become overfished. The vessel owners, crews, dealers, processors and fishing communities associated with these ports would be expected to be affected the most by this alternative when compared to the final 2003 annual specifications for Loligo. This action also modifies the provision for carrying over Quarter I Loligo squid underages. Under the new measure, Loligo squid Quarter I underages less than 80 percent of the Quarter I allocation would be applied to Quarter III. Currently, all underages from Quarter I less than 70 percent are applied to the Quarter III allocation. By making the increased underage available during Quarter III, Loligo squid permit holders could continue to fish during a time when that quarter may have otherwise been closed. This could provide an added economic benefit to fishers during Quarter III. However, because this provision would only shift a limited amount of quota from one period to another, and does not modify the Loligo squid annual quota, no overall change in revenue is expected.

One alternative considered for the Atlantic mackerel fishery was to set the 2003 specifications at the same level as 2002 (ABC = 347,00 mt, IOY = 85,000 mt, DAH = 85,000 mt, DAP = 50,000 mt, JVP = 20,000 mt and TALFF = 0 mt). This alternative would have increased JVP by 10,000 mt and decreased DAP by 100,000 mt. This alternative was rejected because of concerns associated with the potential for rapid expansion of the shoreside processing sector of this industry in 2003. If rapid expansion of the processing sector did occur early in 2003, and landings exceeded 85,000 mt, an inseason adjustment to IOY would be necessary. However, the majority of mackerel landings occur from January through March, and it is unlikely that an inseason adjustment could be made in time for quota to be available to the industry for that period. The result would be the unnecessary closure of the fishery that could result in negative economic and/or social impacts to the U.S. mackerel industry. Some or all of the vessel owners, crews, dealers, processors or fishing communities associated with the Atlantic mackerel fishery could be adversely affected by maintaining the 2002 annual specifications for Atlantic mackerel in 2003.

For Illex squid, one alternative considered would have set Max OY, ABC, IOY, DAH, and DAP at 30,000 mt. This specification would be far in excess of recent landings in this fishery. Therefore, there would be no constraints and, thus, no revenue reductions, associated with these specifications. However, the alternative was found unacceptable because an ABC specification of 30,000 mt may not prevent overfishing in years of moderate to low abundance of Illex squid.

For butterfish, the Council considered two alternatives; the first set a Max OY of 16,000 mt and an ABC, IOY, DAH, and DAP of 7,200 mt, and the second set a Max OY of 16,000 mt and a ABC, IOY, DAH, and DAP at 10,000 mt. These specifications far exceed recent harvests in the butterfish fishery and would not constrain or impact the industry; however, they could lead to overfishing of the stock and, thus, were rejected.

Section 212 of the Small Business Regulatory Enforcement Fairness Act of 1996 (SBREFA) states that, for each rule or group of related rules for which an agency is required to prepare a FRFA, the agency shall publish one or more guides to assist small entities in complying with the rule, and shall designate such publications as “small entity compliance guides.” The agency shall explain the actions a small entity is required to take to comply with a rule or group of rules. As part of this rulemaking process, a letter to permit holders that also serves as the small entity compliance guide (the guide) was prepared. Copies of this final rule are available from the Northeast Regional Office, and the guide, i.e., permit holder letter, will be sent to all holders of permits issued for the mackerel, squid, and butterfish fisheries. The guide and this final rule will be available upon request (see ADDRESSES).

List of Subjects in 50 CFR Part 648

Fisheries, Fishing, Reporting and recordkeeping requirements.

Dated: December 24, 2002.
Rebecca Lent,
Deputy Assistant Administrator for Regulatory Programs, National Marine Fisheries Service.

For the reasons set out in the preamble, 50 CFR part 648 is amended as follows:

PART 648—FISHERIES OF THE NORTHEASTERN UNITED STATES

1. The authority citation for part 648 continues to read as follows:

Authority: 16 U.S.C. 1801 et seq.

2. In § 648.21, paragraph (f)(3) is revised to read as follows:

§ 648.21 Procedures for determining initial annual amounts.

* * * * *

(f) * * *

(3) Beginning January 1, 2003, if commercial landings in Quarter I are determined to be less than 80 percent of the Quarter I quota allocation, any remaining Quarter I quota that is less than 80 percent will be reallocated to Quarter III (e.g., if the Quarter I quota was 100,000 lb (220,462 kg) and 50,000 lb (110,231 kg) was landed, then the remaining Quarter I quota, up to 80 percent, or 30,000 lb (66,139 kg), would be reallocated to Quarter III. A balance of 20 percent, or 20,000 lb (44,092 kg), would remain in Quarter I).

* * * * *

[FR Doc. 02-33038 Filed 12-31-02; 8:45 am]

BILLING CODE 3510-22-S